DEPARTMENT OF THE TREASURY

Internal Revenue Service

Internal Revenue Service Advisory Council; Meeting

AGENCY: Internal Revenue Service, Department of Treasury.

ACTION: Notice of meeting.

SUMMARY: The Internal Revenue Service Advisory Council will hold a public meeting.

DATES: The meeting will be held Wednesday, November 17, 2021.

ADDRESSES: The meeting will be held virtually.

FOR FURTHER INFORMATION CONTACT: Ms. Anna Brown, Office of National Public Liaison, at 202-317-6564 or send an email to PublicLiaison@irs.gov.

SUPPLEMENTARY INFORMATION: Notice is hereby given pursuant to section 10(a)(2) of the Federal Advisory Committee Act, 5 U.S.C. App. (1988), that a public meeting of the Internal Revenue Service Advisory Council (IRSAC) will be held on Wednesday, November 17, 2021, from 11:00 a.m. to 4:00 p.m. ET.

The meeting will be held via Zoom. To register and for meeting link instructions, members of the public may contact Ms. Anna Brown at 202-317-6564 or send an email to PublicLiaison@irs.gov. Attendees are encouraged to join at least 5-10 minutes before the meeting begins.

Issues to be discussed may include, but are not limited to: Adequate Funding for the IRS; Implementation of the Taxpayer First Act Section 1302, Modernization of IRS Organizational Structure; Independent Office of Appeals; Reduction in Electronic Filing Threshold for Information Reporting Filers; Circular 230 Revision; Postponing Deadlines Under Revenue Procedure 2018-58; Payors of Income Related to Digital Assets Need Information Reporting & Withholding Guidance; Foreign Student Social Security and Medicare Exemptions; Section 1446(f): Withholding on Transfers of Interests in Publicly Traded Partnerships; Negative Rates; Consider Reasonable Cause Prior to Assessing Penalties on International Information Reporting Forms; Continuation of Revenue Procedure 94-69; Protecting the Personal Identifiable Information of Responsible Parties; Ensuring the Timely Issuance of Certificate of Residence Forms; The IRS COVID-19 Response; The Compliance Effort Around Abusive Promoters and Preparers; Form 990-N and 990-EZ Thresholds; Reducing the User Fee for Private Letter Rulings for Local, State and Indian Tribal Governments Related to Tax-Advantage Bonds; Update, Expand, and Promote Online IRS Guidance for Federal, State, and Local Governments; Review of Paid Preparer Due Diligence Training Module; Determining the Usefulness of Publication 535; Determining the Usefulness of Publication 938; Encouraging Taxpayers to Maximize the Use of Electronic Filing of all Tax Returns, Forms, and Payments; and Improving the Taxpayer Experience with the Taxpayer Digital Communication—Outbound Notification (TDC-ON) Application (Recently Renamed as Digital Notices and Letters (DN&L)). Last-minute agenda changes may preclude advance notice.

Time permitting, at the end of the meeting, interested persons may make oral statements germane to the Council's work. Persons wishing to make oral statements should contact Ms. Anna Brown at PublicLiaison@irs.gov and include the written text or outline of comments they propose to make orally. Such comments will be limited to five minutes in length. In addition, any interested person may file a written statement for consideration by the IRSAC by sending it to PublicLiaison@irs.gov.

Dated: October 25, 2021.
John A. Lipold,
Designated Federal Officer, Internal Revenue Service Advisory Council.

[FR Doc. 2021-23494 Filed 10-27-21; 8:45 am]

BILLING CODE 4830-01-P